DEPARTMENT OF ENERGY

10 CFR Part 851

[DOE-HQ-2025-0243]

RIN 1901-AB74

Worker Safety and Health Requirements To Support Reform of Nuclear Reactor Testing

AGENCY: Office of Nuclear Energy, U.S. Department of Energy.

ACTION: Notice of proposed rulemaking; request for comment.

SUMMARY: The Department of Energy (DOE or the Department) proposes to amend its regulations for worker safety and health to expedite the review, approval, and deployment of advanced reactors under DOE's jurisdiction including qualified test reactors in DOE's reactor pilot program, consistent with a recent Executive order. The revisions would ensure that DOE's worker safety and health program continues to protect workers, while incorporating lessons learned from decades of operating experience and fostering nuclear innovation and technologies to the benefit of the United States. Additionally, the proposed rule would make minor updates to these regulations to improve clarity.

DATES: DOE will accept comments, data, and information regarding the proposal received no later than February 20, 2026. See section IV, “Public Participation,” for details.

ADDRESSES: Interested persons are encouraged to submit comments using the Federal eRulemaking Portal at www.regulations.gov under docket number DOE-HQ-2025-0243.

Please follow the instructions for submitting comments in section IV.

FOR FURTHER INFORMATION CONTACT: Mr. Daryn Moorman, U.S. Department of Energy, Idaho Operations Office, 1955 N Freemont Avenue, Idaho Falls, ID 83415, Telephone: (208) 526-0111, Email: 851comments@id.doe.gov.

SUPPLEMENTARY INFORMATION:

I. Background/Authority

President Trump issued Executive Order (E.O.) 14301, Reforming Nuclear Reactor Testing at the Department of Energy, on May 23, 2025 (90 FR 22591). E.O. 14301 acknowledges the historical leadership of the United States in developing civilian nuclear power, including establishment of the National Reactor Testing Station (now known as Idaho National Laboratory (INL)). Nonetheless, in Section 1, the E.O. recognizes that this leadership has not been maintained, due in part to “overregulated complacency,” and concludes that the United States must “foster nuclear innovation and bring advanced nuclear technologies into domestic production as soon as possible.”

To support this policy, section 4(b) of E.O. 14301 states that “[w]ithin 90 days of the date of the order, the Secretary [of Energy] shall take appropriate action to revise the regulations, guidance, and procedures and practices of the Department, the National Laboratories, and any other entity under the Department's jurisdiction to significantly expedite the review, approval, and deployment of advanced reactors under the Department's jurisdiction.” That section of the E.O. also directs the Secretary to “ensure that the Department's expedited procedures enable qualified test reactors to be safely operational at Department-owned or Department-controlled facilities within 2 years following the submission of a substantially complete application.”

Section 5 of E.O. 14301 identifies related actions to establish a reactor pilot program to support projects outside National Laboratories. Section 5(a) directs the Secretary to create a pilot program for reactor construction and operation outside the National Laboratories, pursuant to the Atomic Energy Act's authorization of reactors under the Department's sufficient control, including reactors “under contract with and for the account of” the Department, in accordance with 42 U.S.C. 2140. The Secretary is also directed to approve at least three reactors pursuant to this pilot program with the goal of achieving criticality in each of the three reactors by July 4, 2026.

Consistent with this direction from the Administration, DOE has reviewed and identified changes to regulations, guidance, and procedures and practices to expedite the deployment of advanced reactors under DOE's jurisdiction and to support E.O. 14301's goals for qualified test reactors and reactor pilot program projects. For the purposes of this proposed rulemaking, DOE has identified several proposed changes to 10 CFR part 851, Worker Safety and Health Program. In general, the proposed changes to part 851 discussed in Section II update the worker safety and health program for facilities and activities under the responsibility of DOE's Office of Nuclear Energy by incorporating decades of operational experience at DOE nuclear facilities and affording DOE contractors the flexibility to utilize widely-accepted industry or government standards.

DOE has broad authority to regulate worker safety and health with respect to its nuclear and nonnuclear functions pursuant to the Atomic Energy Act of 1954 (AEA), 42 U.S.C. 2011 et seq.; the Energy Reorganization Act of 1974 (ERA), 42 U.S.C. 5801-5911; and the Department of Energy Organization Act (DOEOA), 42 U.S.C. 7101-7352. Specifically, the AEA authorized and directed the Atomic Energy Commission (AEC) to protect health and promote safety during the performance of activities under the AEA. See Sec. 31(a)(5) of AEA, 42 U.S.C. 2051(a)(5); Sec. 161(b) of AEA, 42 U.S.C 2201(b); Sec. 161(i)(3) of AEA, 42 U.S.C. 2201(i)(3); and Sec. 161(p) of AEA, 42 U.S.C. 2201(p). The ERA abolished the AEC and replaced it with the Nuclear Regulatory Commission (NRC), which became responsible for licensing and related regulatory functions concerning commercial nuclear activities, and the Energy Research and Development Administration (ERDA), which became responsible for all other functions of the AEC under the AEA, as well as several nonnuclear functions. The ERA authorized ERDA to use the regulatory authority under the AEA to carry out its nuclear and nonnuclear function, including those functions that might become vested in ERDA in the future. See ERA, sec. 105(a) (codified at 42 U.S.C. 5815(a)); and ERA, sec. 107 (codified at 42 U.S.C. 5817). The DOEOA transferred the functions and authorities of ERDA to DOE. See DOEOA, sec. 301(a) (codified at 42 U.S.C. 7151(a)); DOEOA, sec. 641 (codified at 42 U.S.C. 7251); and DOEOA, sec. 644 (codified at 42 U.S.C. 7254).

In December 2002, Congress directed DOE to promulgate regulations on worker safety and health to cover contractors with Price-Anderson indemnification agreements in their contracts. Specifically, section 3173 of the Bob Stump National Defense Authorization Act for Fiscal Year 2003 amended the Atomic Energy Act (AEA) to add section 234C (codified as 42 U.S.C. 2282c), which requires DOE to promulgate worker safety and health regulations that “provide a level of protection for workers at such facilities that is substantially equivalent to the level of protection currently provided to such workers at such facilities.” See Public Law 107-314 (December 2, 2002). These regulations are to include flexibility to tailor implementation to reflect activities and hazards associated with a particular work environment; to take into account special circumstances for facilities permanently closed or demolished, or for which title is expected to be transferred; and to achieve national security missions in an efficient and timely manner (42 U.S.C. 2282c(a)(3)).

Section 234C also subjects a DOE contractor with such an indemnification agreement that violates these regulations to civil penalties similar to the authority Congress granted to DOE in 1988 with respect to civil penalties for violations of nuclear safety regulations (42 U.S.C. 2282c(b)). Section 234C further directs DOE to insert in such contracts a clause providing for reducing contractor fees and other payments if the contractor or a contractor employee violates any regulation promulgated under section 234C, while specifying that both sanctions may not be used for the same violation (42 U.S.C. 2282c(c)).

As directed by section 234C, DOE issued the regulations at 10 CFR part 851, Worker Safety and Health Program, to implement DOE's worker safety and health program in 2006 (71 FR 6858 (Feb. 9, 2006). This program establishes the framework for a worker protection program that will reduce or prevent occupational injuries, illnesses, and accidental losses by requiring DOE contractors to provide their employees with safe and healthful workplaces (10 CFR 851.1(b)(1). Also, the program establishes procedures for investigating whether a requirement has been violated, for determining the nature and extent of such violation, and for imposing an appropriate remedy (10 CFR 851.1(b)(2). DOE has also provided a summary of this rule at www.regulations.gov.

II. Discussion of Proposal

DOE has reviewed part 851 to identify changes to meet the direction provided in E.O. 14301, while ensuring the continued protection of worker health and safety at a level substantially equivalent to what DOE has previously provided. In general, the proposed changes to Part 851 aim to streamline the regulatory framework for DOE's Office of Nuclear Energy contractors which will, in turn, enhance worker health and safety. These changes include the removal of several sections and requirements, such as appendix A, specific items of § 851.23, and subpart D, among others. These changes also modify approval requirements and enforcement actions, allowing for quicker decision-making and reduced administrative burdens.

The benefits of these changes include increased flexibility, streamlined processes, cost savings, enhanced agility, and improved worker engagement. These changes align with the goals of efficiency and cost-effectiveness, leading to better outcomes for DOE contractors and their workers.

DOE proposes the following specific changes:

DOE proposes to revise the definitions in § 851.3(a) to make editorial corrections and to revise the definition of “DOE site” to clarify that part 851 worker safety and health requirements apply to any operations authorized by DOE, even if an activity is not located on DOE-owned or -leased areas, when those operations are performed in furtherance of a DOE mission. As one example, the construction and operation of a DOE-authorized advanced nuclear reactor on private land by a reactor developer with a contract with DOE would be subject to the requirements under part 851. In this example, if the reactor developer conducts other activities (e.g., for Federal agencies other than DOE, other non-DOE contracts, etc.) besides those authorized by DOE, that part 851 only applies to the portion of the site with the DOE-authorized activities. The proposed revision to the definition of “DOE site” would currently apply only to one site, Idaho National Laboratory, and are envisioned to apply to future sites where reactor developers are operating, pursuant to E.O. 14301, under contract with and for the account of DOE through the Office of Nuclear Energy.

DOE proposes to clarify the current definition for the term “Worker” to note that it refers to an employee of a DOE contractor who performs work in furtherance of a DOE mission at a covered workplace.

DOE proposes to revise § 851.24(b) to clarify that in implementing the structured approach to a worker safety and health program as required by § 851.24(a), contractors subject to the new § 851.46 may choose to use appendix A (Worker Safety and Health Functional Areas) as guidance, but are not required to comply with appendix A. This is because, once the proposed revisions take effect, appendix A will be mandatory only for those contractors that are not operating under the responsibility of the Office of Nuclear Energy. A conforming change is also proposed to the introduction paragraph of appendix A to account for this revision. Any other statements in appendix A, such as a contractor “must” take an action, are to be read in context with these changes to § 851.24(b) and the introduction paragraph of appendix A. Contractors subject to the new § 851.46 may propose alternative approaches as long as the approach addresses the worker safety and health program functional areas required by § 851.24(a).

As mentioned previously, DOE proposes to add a new § 851.46 that will provide direction to contractors operating under DOE's Office of Nuclear Energy responsibility. This section would apply to activities related to the construction and operation of a nuclear facility, including an advanced nuclear reactor or a nuclear fuel cycle facility, by a DOE contractor when that facility is authorized by DOE, regardless of the location of the facility. It also would apply to all activities at INL undertaken by the management and operation contractor because INL is under the responsibility of the Office of Nuclear Energy.

As proposed, for contractors subject to § 851.46, this new section states that certain requirements, which would otherwise apply under part 851, are not required. In particular, § 851.46 would remove overly-prescriptive, individualized approval requirements in § 851.11 concerning worker safety and health programs and updates in favor of more streamlined and efficient control by DOE of those programs and updates through DOE's normal oversight authorities and processes.

Section 851.46 also would exclude the following standards: American Conference of Governmental Industrial Hygienists (ACGIH®), Threshold Limit Values for Chemical Substances and Physical Agents and Biological Exposure Indices (2016); American National Standards Institute (ANSI/ASSE) Z88.2, “American National Standard Practices for Respiratory Protection” (2015); ANSI Z49.1, “Safety in Welding, Cutting and Allied Processes,” sections 4.3 and E4.3 (2012); the requirement in § 851.24 for a structured approach for worker safety and health program functional areas; and materials incorporated by reference in § 851.27. DOE makes this proposal because those standards are overly conservative, as compared to Occupational Safety and Health Administration (OSHA) requirements (e.g., 29 CFR parts 1910 and 1926), and impose unnecessary administrative and operational burdens to contractors. The Threshold Limit Values (TLVs) referenced previously lead contractors to take excessive precautions or require personal protective equipment (PPE) when doing so would not be required for industry. For example, TLVs for cold stress require that special protection of the hands be used if fine work is to be performed with bare hands for more than 10 to 20 minutes in an environment below 60.8 degrees Fahrenheit. Special protection includes warm air jets, radiant heaters, or contact warm plates. However, the temperatures requiring controls noted in the TLV are common working, almost everyday, temperatures at Idaho National Laboratory and local workers are acclimated to working in those conditions. Thus, the required special protections are neither feasible nor reasonable at INL. Consistent with other revisions, the new § 851.46 provides that appendix A applies to Office of Nuclear Energy contractors only as non-binding guidance and not as mandatory requirements. Operational experience has demonstrated that appendix A creates confusion by, for example, requiring contractors to develop sections of a worker safety and health program that are not applicable to their scope of their work. Additionally, some sections include standard or codes that have been revised or updated, which contractors are not able to utilize because specific revision numbers are referenced. Furthermore, any contractor-requested variances to any requirement under part 851 may be submitted directly to, and may be approved by, the cognizant Head of DOE Field Element or DOE employee with authority to approve the relevant safety basis, as applicable, rather than following the existing variance process in subpart D. Finally, any enforcement action taken under part 851 for activities falling within the scope of the new § 851.46 must be performed after consultation with the cognizant Head of DOE Field Element or DOE employee with authority to approve the relevant safety basis, as applicable. To clarify the applicability of the variance process in new § 851.46, § 851.30(a) will also be revised to reflect that, except as outlined in § 851.46, the process in subpart D will apply. In addition, § 851.30 will be revised to specify that variances “may” be granted, as opposed to “shall” be granted, by the Under Secretary, which simply clarifies that the Under Secretary retains the discretion to grant or deny variances in appropriate cases.

These proposed changes to part 851 present significant advantages that can enhance operational efficiency and safety for DOE contractors. These benefits include:

• Increased Flexibility: The revision of certain regulatory requirements would provide contractors with the ability to customize their safety and health programs to better align with their specific operational contexts. This flexibility allows contractors to implement tailored programs that can lead to the implementation of more effective and relevant measures that enhance overall safety.

• Streamlined Processes: By removing redundant compliance steps, the proposed changes are intended to reduce administrative burdens on contractors. This streamlining enables a greater focus on core operational activities, resulting in enhanced efficiency and productivity because contractors will only need to comply with the relevant compliance requirements. These streamlined processes also enhance overall safety by shifting focus away from bureaucratic compliance and towards safety-significant activities.

• Cost Savings: The reduction in compliance-related activities would likely increase cost savings, allowing contractors to reallocate resources previously devoted to paperwork and approvals toward strengthening safety programs, training initiatives, and other critical areas.

• Enhanced Agility: The diminished bureaucratic hurdles, such as the allowance in § 851.46(c)(2) for the cognizant Head of DOE Field Element or DOE employee with authority to approve the relevant safety basis to approve variances, would allow contractors to respond more swiftly to changes in project scope, emerging safety concerns, or advancements in technology. This agility could help maintain project timelines and minimize potential delays.

• Encouragement of Best Practices: The guidance model proposed through the new § 851.46 encourages contractors to explore and implement industry best practices that are most relevant to their operations. For example, removing requirements to meet specific editions of consensus standards, which may become quickly outdated, enables contractors to continually be aware of, and incorporate, industry best practices. This focus on continuous improvement is intended to lead to innovative safety protocols and enhanced worker protection.

• Promotion of Collaboration: The proposed flexible approach in new § 851.46 that removes overly-prescriptive requirements would foster collaboration between DOE and contractors, facilitating the sharing of knowledge and experiences and contributing to the enhancement of safety practices across the DOE network. In particular, this approach incentivizes Office of Nuclear Energy contractors to seek new best practices from industry that increase efficiency while maintaining safety; once implemented, the Office of Nuclear Energy can share those practices with its other contractors.

• Focus on Risk Management: The shift toward non-binding guidance rather than overly-prescriptive requirements for contractors operating under Office of Nuclear Energy responsibility would enable contractors to prioritize risk management tailored to their unique operational hazards. Allowing for this risk-based approach could lead to more effective hazard identification, assessment, and control.

• Improved Worker Engagement: By removing overly-prescriptive requirements, the proposed changes will empower contractors to develop safety practices, based on industry and OHSA standards and informed by their own operational experience, rather than relying on DOE to dictate exactly which practices to use. Because many of those practices will be developed by the contractors' employees, the proposed changes would also foster a sense of ownership among those employees. Increased worker involvement in safety protocol development could enhance engagement and accountability, which DOE believes is a necessary component for the successful operation of these facilities.

• Alignment with Industry Standards: The proposed changes would facilitate better alignment with evolving industry safety standards and best practices, allowing contractors to adapt more readily to advancements in safety technology and methodologies. Currently, § 851.27 incorporates references with specific revision numbers, preventing contractors from utilizing the most recent standard or code.

The proposed changes to 10 CFR part 851 aim to create a more efficient, innovative, and proactive safety environment for DOE contractors. By minimizing bureaucratic constraints, these changes position contractors to better manage risks, protect worker safety, and enhance overall operational performance, thereby providing long-term benefits to the DOE and its mission.

In summary, DOE has tentatively determined that these changes to part 851 would help the review, approval, and deployment of advanced reactors under DOE's jurisdiction and support a reactor pilot program, consistent with E.O. 14301.

DOE seeks comments on all aspects of this proposal to amend 10 CFR part 851.

III. Procedural Issues and Regulatory Review

A. Review Under Executive Order 12866

Executive Order (“E.O.”) 12866, “Regulatory Planning and Review,” requires agencies, to the extent permitted by law, to (1) propose or adopt a regulation only upon a reasoned determination that its benefits justify its costs (recognizing that some benefits and costs are difficult to quantify); (2) tailor regulations to impose the least burden on society, consistent with obtaining regulatory objectives, taking into account, among other things, and to the extent practicable, the costs of cumulative regulations; (3) select, in choosing among alternative regulatory approaches, those approaches that maximize net benefits (including potential economic, environmental, public health and safety, and other advantages; distributive impacts; and equity); (4) to the extent feasible, specify performance objectives, rather than specifying the behavior or manner of compliance that regulated entities must adopt; and (5) identify and assess available alternatives to direct regulation, including providing economic incentives to encourage the desired behavior, such as user fees or marketable permits, or providing information upon which choices can be made by the public. For the reasons stated in the preamble, this proposed rule is consistent with these principles. One alternative approach that DOE considered but rejected was to make the proposed changes more broadly applicable to the Department as a whole rather than only to Office of Nuclear Energy contractors. However, given that the catalyst for the proposed changes, E.O. 14301, set forth an expedited timeline and affected only Office of Nuclear Energy contractors, the Department decided to focus these proposed changes on Office of Nuclear Energy contractors and defer changes affecting other DOE contractors for future consideration.

Section 6(a) of E.O. 12866 also requires agencies to submit “significant regulatory actions” to the Office of Information and Regulatory Affairs (OIRA) in the Office of Management and Budget (OMB) for review. OIRA has determined that this proposed regulatory action constitute a “significant regulatory action” under section 3(f) of E.O. 12866. Accordingly, this proposed regulatory action was submitted to OIRA for review under E.O. 12866.

B. Review Under Additional Executive Orders and Presidential Memoranda

DOE has examined this proposed rule and has tentatively determined that it is consistent with the policies and directives outlined in E.O. 14154 “Unleashing American Energy,” E.O. 14192, “Unleashing Prosperity Through Deregulation,” and Presidential Memorandum, “Delivering Emergency Price Relief for American Families and Defeating the Cost-of-Living Crisis.” This proposed rulemaking is an E.O. 14192 deregulatory action because it intends to reduce the burden to society by streamlining the regulatory framework and improving efficiency for Office of Nuclear Energy contractors. Fewer compliance steps will allow contractors to focus on risk management and reallocate resources, leading to faster decision-making and reduced administrative tasks and significant savings in both time and resources. Empowering contractors to develop their safety practices fosters a sense of ownership among employees. Increased worker involvement in safety protocol development may enhance engagement and accountability. Finally, the proposed changes facilitate better alignment with evolving industry safety standards and best practices, allowing contractors to adapt more readily to advancements in safety technology and methodologies. Faster decision-making and reduced administrative tasks can lead to significant savings in both time and resources. Potential cost savings for Office of Nuclear Energy contractors are estimated to be 1-3% of the contract value per year. For INL, this would be on the order of $20-60 million per year. This estimate includes savings, based on contractor billing data, attributable to: (1) reduced expenditures on unnecessary exhaust ventilation equipment (portable and stationary) and excessive personal protective equipment (e.g., protective suits and respirators); and (2) increased worker productivity and efficiency resulting from the removal of overly-conservative work restrictions (e.g., cold stress restrictions discussed previously).

C. Review Under Regulatory Flexibility Act

The Regulatory Flexibility Act (5 U.S.C. 601 et seq.) requires preparation of an initial regulatory flexibility analysis (IRFA) and a final regulatory flexibility analysis (FRFA) for any rule that by law must be proposed for public comment, unless the agency certifies that the rule, if promulgated, will not have a significant economic impact on a substantial number of small entities. As required by E.O. 13272, “Proper Consideration of Small Entities in Agency Rulemaking,” 67 FR 53461 (Aug. 16, 2002), DOE published procedures and policies on February 19, 2003, to ensure that the potential impacts of its rules on small entities are properly considered during the rulemaking process. 68 FR 7990. DOE has made its procedures and policies available on the Office of the General Counsel's website (www.energy.gov/gc/office-general-counsel).

DOE reviewed this proposed rule under the provisions of the Regulatory Flexibility Act and the policies and procedures published on February 19, 2003. The regulatory requirements at issue are internal-facing and affect DOE operations and contractors as opposed to the general economy. The proposed rule reduces administrative overhead, allowing small entities to allocate resources more effectively. Moreover, it empowers small entities to implement safety measures that are directly relevant to their specific operational contexts, enhancing both efficiency and worker safety. Therefore, DOE initially concludes that the impacts of the proposed rule would not have a “significant economic impact on a substantial number of small entities,” and that the preparation of an IRFA is not warranted. DOE will transmit this certification and supporting statement of factual basis to the Chief Counsel for Advocacy of the Small Business Administration for review under 5 U.S.C. 605(b).

D. Review Under Paperwork Reduction Act

This proposed rule imposes no new information collection requirements subject to the Paperwork Reduction Act, and OMB clearance is not required. (44 U.S.C. 3501 et seq.)

E. Review Under National Environmental Policy Act of 1969

Pursuant to the National Environmental Policy Act of 1969 (NEPA), DOE has analyzed this proposed regulatory action in accordance with NEPA and DOE's NEPA implementing procedures and has tentatively determined that it is excepted from NEPA review pursuant to appendix A of 10 CFR part 1021.

F. Review Under Executive Order 13132

Executive Order 13132, “Federalism,” 64 FR 43255 (August 4, 1999), imposes certain requirements on Federal agencies formulating and implementing policies or regulations that preempt State law or that have federalism implications. The Executive order requires agencies to examine the constitutional and statutory authority supporting any action that would limit the policymaking discretion of the States and to carefully assess the necessity for such actions. The Executive order also requires agencies to have an accountable process to ensure meaningful and timely input by State and local officials in the development of regulatory policies that have federalism implications. On March 14, 2000, DOE published a statement of policy describing the intergovernmental consultation process it will follow in the development of such regulations. 65 FR 13735. DOE has examined this proposed rule and has tentatively determined that it would not have a substantial direct effect on the States, on the relationship between the national government and the States, or on the distribution of power and responsibilities among the various levels of government. Therefore, no further action is required by Executive Order 13132.

G. Review Under Executive Order 12988

With respect to the review of existing regulations and the promulgation of new regulations, section 3(a) of Executive Order 12988, “Civil Justice Reform,” 61 FR 4729 (February 7, 1996), imposes on Executive agencies the general duty to adhere to the following requirements: (1) eliminate drafting errors and ambiguity; (2) write regulations to minimize litigation; and (3) provide a clear legal standard for affected conduct rather than a general standard and promote simplification and burden reduction. With regard to the review required by section 3(a), section 3(b) of Executive Order 12988 specifically requires that Executive agencies make every reasonable effort to ensure that the regulation: (1) clearly specifies the preemptive effect, if any; (2) clearly specifies any effect on existing Federal law or regulation; (3) provides a clear legal standard for affected conduct while promoting simplification and burden reduction; (4) specifies the retroactive effect, if any; (5) adequately defines key terms; and (6) addresses other important issues affecting clarity and general draftsmanship under any guidelines issued by the Attorney General. Section 3(c) of Executive Order 12988 requires Executive agencies to review regulations in light of applicable standards in section 3(a) and section 3(b) to determine whether they are met or it is unreasonable to meet one or more of them. DOE has initiated the required review and tentatively determined that, to the extent permitted by law, this proposed rule meets the relevant standards of Executive Order 12988.

H. Review Under Unfunded Mandates Reform Act of 1995

Title II of the Unfunded Mandates Reform Act of 1995 (UMRA) requires each Federal agency to assess the effects of Federal regulatory actions on State, local, and Tribal governments and the private sector. Public Law 104-4, sec. 201 (codified at 2 U.S.C. 1531). For a regulatory action likely to result in a rule that may cause the expenditure by State, local, and Tribal governments, in the aggregate, or by the private sector of $100 million or more in any one year (adjusted annually for inflation), section 202 of UMRA requires a Federal agency to publish a written statement that estimates the resulting costs, benefits, and other effects on the national economy. (2 U.S.C. 1532(a), (b)) The UMRA also requires a Federal agency to develop an effective process to permit timely input by elected officers of State, local, and Tribal governments on a “significant intergovernmental mandate,” and requires an agency plan for giving notice and opportunity for timely input to potentially affected small governments before establishing any requirements that might significantly or uniquely affect them. On March 18, 1997, DOE published a statement of policy on its process for intergovernmental consultation under UMRA. 62 FR 12820. DOE's policy statement is also available at www.energy.gov/sites/prod/files/gcprod/documents/umra_97.pdf.

DOE examined this proposed rule according to UMRA and its statement of policy and tentatively determined that the proposed rule does not contain a Federal intergovernmental mandate, nor is it expected to require expenditures of $100 million or more in any one year by State, local, and Tribal governments, in the aggregate, or by the private sector. As a result, the analytical requirements of UMRA do not apply.

I. Review Under Treasury and General Government Appropriations Act, 1999

Section 654 of the Treasury and General Government Appropriations Act, 1999 (Pub. L. 105-277) requires Federal agencies to issue a Family Policymaking Assessment for any rule that may affect family well being. This proposed rule would not have any impact on the autonomy or integrity of the family as an institution. Accordingly, DOE has tentatively concluded that it is not necessary to prepare a Family Policymaking Assessment because proposed regulatory action would not have any financial impact on families nor any impact on the autonomy or integrity of the family as an institution.

J. Review Under Executive Order 12630

Pursuant to E.O. 12630, “Governmental Actions and Interference with Constitutionally Protected Property Rights,” 53 FR 8859 (March 18, 1988), DOE has determined that this proposed rule would not result in any takings that might require compensation under the Fifth Amendment to the U.S. Constitution.

K. Review Under Treasury and General Government Appropriations Act, 2001

Section 515 of the Treasury and General Government Appropriations Act, 2001 (44 U.S.C. 3516 note) provides for Federal agencies to review most disseminations of information to the public under information quality guidelines established by each agency pursuant to general guidelines issued by OMB. OMB's guidelines were published at 67 FR 8452 (Feb. 22, 2002), and DOE's guidelines were published at 67 FR 62446 (Oct. 7, 2002). Pursuant to OMB Memorandum M-19-15, Improving Implementation of the Information Quality Act (April 24, 2019), DOE published updated guidelines which are available at: www.energy.gov/cio/department-energy-information-quality-guidelines. DOE has reviewed this proposed rule under the OMB and DOE guidelines and has tentatively concluded that it is consistent with applicable policies in those guidelines.

L. Review Under Executive Order 13211

Executive Order 13211, “Actions Concerning Regulations That Significantly Affect Energy Supply, Distribution, or Use,” 66 FR 28355 (May 22, 2001), requires Federal agencies to prepare and submit to OIRA at OMB, a Statement of Energy Effects for any significant energy action. A “significant energy action” is defined as any action by an agency that promulgated or is expected to lead to promulgation of a proposed rule, and that: (1) is a significant regulatory action under Executive Order 12866, or any successor order; and (2) is likely to have a significant adverse effect on the supply, distribution, or use of energy, or (3) is designated by the Administrator of OIRA as a significant energy action. For any significant energy action, the agency must give a detailed statement of any adverse effects on energy supply, distribution, or use should the proposal be implemented, and of reasonable alternatives to the action and their expected benefits on energy supply, distribution, and use.

This proposed regulatory action would update DOE's regulations in 10 CFR part 851 for worker safety and health to expedite the review, approval, and deployment of advanced reactors under DOE's jurisdiction, including under its reactor pilot program.

This action would not have a significant adverse effect on the supply, distribution, or use of energy, nor has it been designated as a significant energy action by the Administrator of OIRA. Therefore, it is not a significant energy action, and, accordingly, DOE has not prepared a Statement of Energy Effects.

IV. Public Participation

Submission of Comments. DOE will accept all comments, data, and information regarding this proposed rule no later than the date provided in the DATES section at the beginning of this proposed rule. Interested parties may submit comments, data, and other information using any of the methods described in the ADDRESSES section at the beginning of this document.

Submitting comments via www.regulations.gov. The www.regulations.gov web page will require you to provide your name and contact information. Your contact information will be viewable to DOE staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment itself or in any documents attached to your comment. Any information that you do not want to be publicly viewable should not be included in your comment, nor in any document attached to your comment. Otherwise, persons viewing comments will see only first and last names, organization names, correspondence containing comments, and any documents submitted with the comments.

Do not submit to www.regulations.gov information for which disclosure is restricted by statute, such as trade secrets and commercial or financial information (hereinafter referred to as Confidential Business Information (CBI)). Comments submitted through www.regulations.gov cannot be claimed as CBI. Comments received through the website will waive any CBI claims for the information submitted. For information on submitting CBI, see the Confidential Business Information section.

DOE processes submissions made through www.regulations.gov before posting. Normally, comments will be posted within a few days of being submitted. However, if large volumes of comments are being processed simultaneously, your comment may not be viewable for up to several weeks. Please keep the comment tracking number that www.regulations.gov provides after you have successfully uploaded your comment.

Campaign form letters. Please submit campaign form letters by the originating organization in batches of between 50 to 500 form letters per PDF or as one form letter with a list of supporters' names compiled into one or more PDFs. This reduces comment processing and posting time.

Confidential Business Information. Pursuant to 10 CFR 1004.11, any person submitting information that he or she believes to be confidential and exempt by law from public disclosure should submit via email two well-marked copies: one copy of the document marked “confidential” including all the information believed to be confidential, and one copy of the document marked “non-confidential” with the information believed to be confidential deleted. DOE will make its own determination about the confidential status of the information and treat it according to its determination.

It is DOE's policy that all comments may be included in the public docket, without change and as received, including any personal information provided in the comments (except information deemed to be exempt from public disclosure).

V. Approval of the Office of the Secretary

The Secretary of Energy has approved publication of the notice of proposed rulemaking; request for comment.

List of Subjects in 10 CFR Part 851

Federal buildings and facilities, Hazardous substances, Occupational safety and health, Penalties, Reporting and recordkeeping requirements, Safety.

Signing Authority

This document of the Department of Energy was signed on January 12, 2026, by Chris Wright, Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 16, 2026.
Jennifer Hartzell,
Alternate Federal Register Liaison Officer, U.S. Department of Energy.

For the reasons set forth in the preamble, DOE is proposing to amend part 851 of chapter III of title 10, Code of Federal Regulations as set forth below:

PART 851—WORKER SAFETY AND HEALTH PROGRAM

1. The authority citation continues to read as follows:

Authority: 42 U.S.C. 2201(i)(3), (p); 42 U.S.C. 2282c; 42 U.S.C. 5801 et seq.; 42 U.S.C. 7101 et seq.; 50 U.S.C. 2401 et seq.; 28 U.S.C. 2461 note.

2. Amend § 851.3 by revising the definitions for “Closure facility,” “Cognizant Secretarial Officer,” “DOE site,” and “Worker” to read as follows:

§ 851.3 Definitions.

* * * * *

Closure facility means a facility that is non-operational and is, or is expected to be, permanently closed and/or demolished, or title to which is expected to be transferred to another entity for reuse.

* * * * *

Cognizant Secretarial Officer (CSO) means, with respect to a particular situation, the Assistant Secretary, Deputy Administrator, Program Office Director, or equivalent DOE official who has primary line management responsibility for a contractor, or any other official to whom the CSO delegates in writing a particular function under this part.

* * * * *

DOE site means a DOE-owned or -leased area or location or other area or location controlled by DOE or with operations authorized by DOE where activities and operations are performed at one or more facilities or places by a contractor in furtherance of a DOE mission.

* * * * *

Worker means an employee of a DOE contractor who performs work in furtherance of a DOE mission at a covered workplace.

* * * * *

2. Amend § 851.24 by revising paragraph (b) to read as follows:

§ 851.24 Functional areas.

* * * * *

(b) In implementing the structured approach required by paragraph (a) of this section, except as stated in § 851.46, contractors must comply with the applicable standards and provisions in appendix A of this part, entitled “Worker Safety and Health Functional Areas.”

3. Amend § 851.30 by revising paragraph (a) to read as follows:

§ 851.30 Consideration of variances.

(a) Except as provided in § 851.46, variances may be granted by the Under Secretary after considering the recommendation of the EHSS Director. The authority to grant a variance cannot be delegated.

* * * * *

4. Add a new § 851.46 to read as follows:

§ 851.46 Direction to contractors operating under Office of Nuclear Energy responsibility.

(a) This section applies only to DOE sites under DOE's Office of Nuclear Energy responsibility, including nuclear facilities authorized by the Office of Nuclear Energy.

(b) Notwithstanding any other provision of this part, the following provisions do not apply to facilities covered by paragraph (a) of this section:

(1) Section 851.11(b) and any other requirements in § 851.11(a) and (c) of this part requiring approval by DOE of the contractor's worker safety and health programs and updates;

(2) Section 851.23(a)(9), (10), and (12);

(3) Section 851.24;

(4) Section 851.27(b), (c)(1), and (c)(2); and

(5) Subpart D.

(c) Notwithstanding any other provision of this part, the following provisions apply to facilities covered by paragraph (a) of this section:

(1) Appendix A to this part is applicable only as guidance, not as a requirement;

(2) Variances to any requirement of this part are to be submitted to, and require the approval of, the cognizant Head of DOE Field Element or DOE employee with authority to approve the relevant safety basis, as applicable; and

(3) Any enforcement action taken under this part must be performed after consultation with the cognizant Head of DOE Field Element or DOE employee with authority to approve the relevant safety basis, as applicable.

5. Revise the introductory paragraph of appendix A to part 851 to read as follows:

Appendix A to Part 851—Worker Safety and Health Functional Areas

Except as stated in § 851.46, this appendix establishes the mandatory requirements for implementing the applicable functional areas required by § 851.24.

* * * * *

[FR Doc. 2026-01066 Filed 1-20-26; 8:45 am]

BILLING CODE 6450-01-P